DEPARTMENT OF TRANSPORTATION

Research and Special Programs Administration

[Docket: RSPA-98-4957; Notice 32]

Submission for OMB Review; Comment Request

ACTION: Submission for OMB review; comment request.

AGENCY: Research and Special Programs Administration, DOT.

SUMMARY: In compliance with the requirements of section 3506(c)(2)(A) of the Paperwork Reduction Act of 1995, the Research and Special Programs Administration (RSPA), is publishing its intention to renew the collection of information for Certification and Agreement Forms for the Gas and Hazardous Liquid Pipeline Safety Program. The information provided on these forms is used to calculate grants to states to assist them in monitoring pipeline safety. This notice requests that states submit comments to RSPA to indicate the burden associated with providing the information requested in the certification and agreement forms. This information helps RSPA assess how it can better collect information and also helps ensure that states are receiving adequate assistance to further pipeline safety.

FOR FURTHER INFORMATION CONTACT: Marvin Fell, Office of Pipeline Safety, Research and Special Programs Administration, Department of Transportation, 400 Seventh Street, SW., Washington, DC 20590 (202) 366-6205 or by e-mail at marvin.fell@rspa.dot.gov.

DATES: Comments on this notice must be received by December 11, 2001 to be assured of consideration.

ADDRESSES: Comments should identify the docket number of this notice, RSPA-98-4957. Comments can be mailed to Dockets Facility, U.S. Department of Transportation, Plaza 401, 400 Seventh Street SW., Washington, DC 20590-0001. You should submit the original and one copy. If you wish to receive confirmation of receipts of your comments you must include a stamped self-addressed postcard. The Dockets Facility is open from 10 A.M. to 5 p.m., Monday through Friday , except on Federal holidays. In addition, the public may also submit or review comments by accessing the Docket Management System's homepage at http:/dms.dot.gov.

Type of Information Collection Request: Renewal of Existing Collection.

Title of Information Collection: Certification and Agreement Forms for the Gas and Hazardous Liquid Pipeline Safety Program.

OMB Approval Number: 2137-0584.

Frequency: Annually.

Use: This collection is used by RSPA to ensure that state agencies attesting they have regulatory jurisdiction over pipeline safety, have adopted and are complying with minimum Federal safety standards. This information is used to calculate grants to states.

Estimated Number of Respondents: 61.

Respondents: State Agencies.

Total Annual Hours Requested: 3,660.

Interested persons are invited to send comments regarding the burden estimated or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Issued in Washington, DC on October 5, 2001.
Stacey L. Gerard,
Associate Administrator for Pipeline Safety.

[FR Doc. 01-25654 Filed 10-11-01; 8:45 am]

BILLING CODE 4910-60-P